DEPARTMENT OF VETERANS AFFAIRS

Rehabilitation Research and Development Service Scientific Merit Review Board; Notice of Meeting

The Department of Veterans Affairs (VA) gives notice under Public Law 92-463 (Federal Advisory Committee Act) that a meeting of the Rehabilitation Research and Development Service Scientific Merit Review Board will be held August 9-11 and 16-18, 2011, at the Sheraton Crystal City Hotel, 1800 Jefferson Davis Highway, Arlington, VA, from 8 a.m. to 5 p.m. each day. The following subcommittees of the Board will meet to evaluate merit review applications:

August 9—Rehabilitation Engineering and Prosthetics/Orthotics; Regenerative Medicine.

August 9-10—Aging & Neurodegenerative Disease; Psychological Health and Social Reintegration.

August 9-11—Brain Injury; Musculoskeletal/Orthopedic Rehabilitation.

August 16—Rehabilitation Engineering and Prosthetics/Orthotics.

August 16-17—Psychological Health and Social Reintegration; Sensory Systems/Communication; Spinal Cord Injury; and Career Development Award Program.

August 18—Rehabilitation Research and Development Centers of Excellence.

The purpose of the Board is to review rehabilitation research and development applications and advises the Director, Rehabilitation Research and Development Service, and the Chief Research and Development Officer on the scientific and technical merit, the mission relevance, and the protection of human and animal subjects.

A general session of each subcommittee meeting will be open to the public for approximately one hour at the start of each meeting to cover administrative matters and to discuss the general status of the program. The remaining portion of each subcommittee meeting will be closed to the public for the discussion, examination, reference to, and oral review of the research applications and critiques.

During the closed potion of each meeting, discussion and recommendations will include qualifications of the personnel conducting the studies (the disclosure of which would constitute a clearly unwarranted invasion of personal privacy), as well as research information (the premature disclosure of which would likely compromise significantly the implementation of proposed agency action regarding such research projects). As provided by subsection 10(d) of Public Law 92-463, as amended by Public Law 94-409, closing the meeting is in accordance with 5 U.S.C. 552b(c)(6) and (9)(B).

Those who plan to attend the general session should contact Tiffany Asqueri, Designated Federal Officer, Rehabilitation Research and Development Service, at Department of Veterans Affairs (10P9R), 810 Vermont Avenue, NW., Washington, DC 20420, or e-mail tiffany.asqueri@va.gov at least five days before the meeting. For further information, please call Mrs. Asqueri at (202) 443-5757.

By Direction of the Secretary.
Dated: July 12, 2011.
Vivian Drake,
Acting Committee Management Officer.

[FR Doc. 2011-17942 Filed 7-15-11; 8:45 am]

BILLING CODE